DEPARTMENT OF COMMERCE

National Oceanic and Atmospheric Administration

Agency Information Collection Activities; Submission to the Office of Management and Budget (OMB) for Review and Approval; Comment Request; Greater Atlantic Region Atlantic Sea Scallop Fishery Management Plan

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on October 10, 2024, during a 60-day comment period. This notice allows for an additional 30 days for public comments.

Agency: National Oceanic and Atmospheric Administration (NOAA), Commerce.

Title: Greater Atlantic Region, Atlantic Sea Scallop Fishery Management Plan.

OMB Control Number: 0648-0491.

Form Number(s): None.

Type of Request: Regular (extension of current information collection).

Number of Respondents: 804.

Average Hours per Response: Trip exchange request (full & part-time)—15 minutes; Quota transfer application (temporary & permanent)—5 minutes; Cost Recovery—2 hours; Sector Proposals & Operation Plans—250 hours.

Total Annual Burden Hours: 980 hours.

Needs and Uses: This is a request for renewal of an approved information collection. Under the Magnuson-Stevens Fishery Conservation and Management Act, the Secretary of Commerce has the responsibility for the conservation and management of marine fishery resources. Much of this responsibility has been delegated to NOAA's National Marine Fisheries Service (NMFS). NMFS manages the Atlantic Sea Scallop (scallop) fishery through a set of regulations that limit catch of scallops and fishing vessel activity. In addition, regulations limit catch of certain other species of fish in order to minimize bycatch and bycatch mortality (bycatch is the catch and discard of species that are not targeted in the scallop fishery). Finally, the regulations control vessel permitting and the exchange of effort and quota allocations between vessels. In order to effectively manage these resources, track fishing effort and catch, and to allow vessel owners to exchange fishing trips and quota, NMFS must collect information through the reporting requirements included in this renewal. This renewal contains the following information collections: Access area trip exchange application procedures; Individual Fishing Quota (IFQ) transfers; Cost recovery; and IFQ sector program.

Access Area Trip Exchange Application

The one-for-one access area trip exchange program provides flexibility to scallop vessels about where they may fish. Participants need to send an access area trip exchange application to NMFS with the following information: Vessel name and permit number, owner name and signature, specification of the areas involved in the exchange. Both vessels involved in the exchange are required to submit forms for cross verification. This measure provides flexibility to vessels regarding which areas to fish, thereby reducing the possibility of revenue loss to those vessels that are unable to access some distant areas due to vessel capacity constraints.

IFQ Transfers

IFQ permit holders can temporarily and/or permanently transfer individual fishing quota from one IFQ vessel to another. Quota transfers are requested through the submission of transfer applications. Required information includes vessel information, quota transfer information, and authorizing signatures from both parties. The IFQ transfer program is entirely optional and provides greater flexibility for IFQ permit holders by enabling them to increase their vessel's IFQ or for individuals to lease or sell IFQ if they choose not to fish the allocation.

Cost Recovery

Section 304(d)(2) of the Magnuson-Stevens Act (MSA) requires an IFQ cost recovery plan to recover management and enforcement costs for IFQ fisheries. The FMP includes an IFQ cost recovery program, whereby NMFS will collect up to 3% of ex-vessel value of landed product to cover actual costs directly related to enforcement and management of the IFQ program. IFQ permit holders are required to submit a cost recovery payment annually via a pre-existing Federal payment system called www.pay.gov, which is also currently used by the Alaska Region and the Southeast Region. Information submitted via the internet would require the user to establish an online account, including personal and financial information. This requirement is necessary in order to comply with the provisions of the MSA and to collect payments from individuals that have been granted an allocation to a public resource.

IFQ Sector Program

The FMP contains provisions that authorize allocation of a portion of the overall IFQ fishery total allowable catch (TAC) to a self-selected group of IFQ permit holders (sector), provided the sector provides adequate information describing the formation of the sector and its intended plan of operations. Individuals or other entities (corporations, cooperatives, etc.) proposing a sector are required to submit a Sector Allocation Proposal and Operations Plan. Any person may submit a Sector Allocation Proposal for a group of limited access general category scallop vessels to the Council, at least 1 year in advance of the start of a sector, and request that the Sector be implemented through a framework procedure specified at § 648.55. A group that wants to form a Sector and receive an allocation is required to submit a legally binding Operations Plan to the Council and the Regional Administrator. The operations plan must be agreed upon and signed by all members of the sector and, if approved, will constitute a contract. This information is necessary to describe the proposed sector and the proposed rules under which the sector would operate. This information is used to determine whether this sector would maintain consistency with the goals and objectives of the FMP.

Affected Public: Businesses and other for-profit organizations are primarily affected.

Frequency: Varies based on information collected.

Respondent's Obligation: Mandatory.

Legal Authority: Magnuson-Stevens Fishery Conservation and Management Reauthorization Act of 2006.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0491.

Sheleen Dumas,
Departmental PRA Compliance Officer, Office of the Under Secretary for Economic Affairs, Commerce Department.

[FR Doc. 2025-07088 Filed 4-23-25; 8:45 am]

BILLING CODE 3510-22-P